DEPARTMENT OF AGRICULTURE

Farm Service Agency

Information Collection: Emergency Conservation Program

AGENCY: Farm Service Agency, USDA.

ACTION: Notice; request for comments.

SUMMARY: In accordance with the Paperwork Reduction Act of 1995, the Farm Service Agency (FSA) is seeking comments from all interested individuals and organizations on an extension with revision of currently approved information collection associated with the Emergency Conservation Program (ECP). To assist with the modernization of ECP, new forms, which allow for multiple practices and multiple farms and tracts, will be used in lieu of the AD-245 for application processed through the new web-based software.

DATES: We will consider comments that we receive by October 4, 2010. We will consider comments submitted after this date to extent possible.

ADDRESSES: We invite you to submit comments on this Notice. In your comment, include the volume, date, and page number of this issue of the Federal Register. You may submit comments by any of the following methods:

E-Mail: Send comments to: Katina.Hanson@wdc.usda.gov.

Fax: (202) 720-4619.

Mail: Katina Hanson, ECP Program Manager, Conservation and Environmental Programs Division, Farm Service Agency, United States Department of Agriculture, STOP 0513, 1400 Independence Avenue, SW., Washington, DC 20250-0513.

Comments also should be sent to the Desk Officer for Agriculture, Office of Information and Regulatory Affairs, Office of Management and Budget, Washington, DC 20503.

FOR FURTHER INFORMATION CONTACT: Katina Hanson, ECP Program Manager, (202) 720-0062.

SUPPLEMENTARY INFORMATION:

Description of Information Collection

Title: Emergency Conservation Program.

OMB Control Number: 0560-0082.

Expiration Date: January 31, 2011.

Type of Request: Extension and Revision of a Currently Approved Information Collection.

Abstract: This information collection is to allow FSA to effectively administer the regulations under the ECP. The regulations at 7 CFR part 701 set forth basic policies, program provisions, and eligibility requirements for owners and operators to enter into agreement with, to apply for financial and technical assistance and for receiving cost-share payments under the ECP. The revision to the currently approved information collection is in response to the need to continue to service ECP customers and more efficiently collect information on cost-share requests, agreements, and performance by modernizing the ECP forms and software processes.

Estimate of Burden: Public reporting burden for this collection of information is estimated to average .3 hours (19 minutes) per response. The average travel time, which is included in the total annual burden, is estimated to be 1 hour per respondent.

Respondents: Owners, operators and other eligible agricultural producers on eligible farmland.

Number of Respondents: 40,000.

Estimated Number of Responses per Respondent: 1.

Estimated Annual Number of Respondents: 40,000.

Estimated Total Annual Burden Hours: 51,263.

We are requesting comments on all aspects of this information collection, and to help us to:

(1) Evaluate whether the collection of information is necessary for the proper performance of the functions of the agency, including whether the information will have practical utility;

(2) Evaluate the accuracy of the agency's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Signed at Washington, DC, on July 27, 2010.
Jonathan W. Coppess,
Administrator, Farm Service Agency.

[FR Doc. 2010-19045 Filed 8-2-10; 8:45 am]

BILLING CODE 3410-05-P